DEPARTMENT OF AGRICULTURE

Forest Service

Revision of the Land Management Plan for the Lolo National Forest

AGENCY: Forest Service, Agriculture (USDA).

ACTION: Notice of intent to prepare an environmental impact statement.

SUMMARY: The U.S. Department of Agriculture (USDA) Forest Service is revising the land management plan for the Lolo National Forest and preparing an environmental impact statement (EIS). This notice announces the Forest Service's intent to prepare an EIS and initiates the scoping period on the proposed action. This notice describes the documents available for review and how to obtain them; summarizes the need for change to the existing land management plan; provides information concerning public participation and collaboration, including the process for submitting comments; provides an estimated schedule for the planning process, including the time available for comments; and how to obtain additional information.

DATES: Comments concerning the preliminary need for change and the proposed action must be received by April 1, 2024. The draft EIS and draft revised land management plan are expected in December 2024. The final EIS, final revised land management plan, and draft record of decision (ROD) are expected in 2026.

ADDRESSES: Send written comments or inquiries to: Lolo National Forest Supervisor's Office, Attn: Amanda Milburn—Lolo Plan Revision, 24 Fort Missoula Rd, Missoula, MT 59804. Commenters are encouraged to submit comments electronically on the Lolo Plan Revision website: https://www.fs.usda.gov/goto/lolo/planrevision; or via email to SM.FS.LNFRrevision@usda.gov. All correspondence, including names and addresses, will be part of the public record.

FOR FURTHER INFORMATION CONTACT: Amanda Milburn, Plan Revision Team Leader, 406-438-6640; email at amanda.milburn@usda.gov. Individuals who use telecommunication devices for the deaf and hard of hearing (TDD) may call the Federal Relay Service (FRS) at 1-800-877-8339, 24 hours a day, every day of the year, including holidays. If members of the public are interested in learning more, please visit the website listed above.

SUPPLEMENTARY INFORMATION:

Purpose and Need for Action

The National Forest Management Act (NFMA) of 1976 requires that the Forest Service develop a land management plan, often called a forest plan, for every National Forest. Land management plans provide the strategic direction for management of forest resources. The current Lolo land management plan was adopted in 1986. The purpose and need for revising the current land management plan are (1) the land management plan is 38 years old, (2) since the land management plan was approved in 1986, there have been changes in economic, social, and ecological conditions, new policies and priorities, and new information based on monitoring and scientific research, and (3) to address the preliminary identified need for change to the existing land management plan. The Notice of Intent to Prepare an Assessment and Initiate the Plan Revision Process pursuant to the 2012 Planning Rule (36 CFR 219) was published in the Federal Register on March 16, 2023. A Draft Assessment was posted for comment on June 9, 2023, and based on public comments received, the assessment was revised and posted on September 8, 2023, along with a Draft Preliminary Need to Change (https://www.fs.usda.gov/goto/lolo/planrevision). Overall, there is a need for land management plan direction that is strategic and identifies desired conditions with objectives for how resources should be managed; that eliminates redundancies with existing laws, regulations, and policy; and that incorporates the best available scientific information.

Proposed Action

The proposed action is to revise the 1986 Lolo National Forest land management plan to address the identified need for change. In response to the preliminary need for change, a preliminary Draft Land Management Plan has been developed that includes desired conditions, goals, objectives, standards, guidelines, suitability of lands for specific multiple uses, lands that could be recommended to Congress for inclusion into the National Wilderness Preservation System, and the identification of rivers eligible for inclusion into the National Wild and Scenic Rivers system. It can be found on the Lolo National Forest Plan Revision website along with the Preliminary Need to Change (https://www.fs.usda.gov/goto/lolo/planrevision).

Expected Impacts

The revised land management plan will not authorize any projects or actions but will guide future decision-making on the Lolo National Forest. In accordance with the 2012 Planning Rule, the revised land management plan will provide for sustainability, diversity of plant and animal communities, and multiple uses. It will inform the purpose and need for future actions, guide the design of projects, and will also include a plan monitoring program that will guide the development of biennial land management plan monitoring reports.

Lead and Cooperating Agencies

The Forest Service is the lead agency for this proposed action. Cooperating agencies thus far include the Confederated Salish and Kootenai Tribes, Mineral County, Montana Department of Natural Resources and Conservation, and Montana Department of Fish, Wildlife, and Parks.

Responsible Official

The responsible official is Carolyn Upton, Forest Supervisor, Lolo National Forest Supervisor's Office, 24 Fort Missoula Road, Missoula, MT 59804, 406-329-3750.

Scoping Comments and the Objection Process

This notice of intent initiates the scoping process, which will guide the development of the EIS. Written comments received in response to this notice will be analyzed to complete the identification of the Need to Change the existing land management plan, further develop the proposed action (Preliminary Draft Land Management Plan) and identify potential significant issues. Significant issues will, in turn, form the basis for developing alternatives to the proposed action. The Forest Service will host public forums during the scoping period. Engagement opportunities will be posted on the Lolo National Forest Plan Revision website: https://www.fs.usda.gov/goto/lolo/planrevision. Information will also be shared through electronic mailing lists, social media, and local media outlets.

It is important that reviewers provide comments at such times and in such a manner that they are useful to the Forest Service's preparation of the EIS. Therefore, comments should be provided prior to the close of the comment period and should clearly articulate the reviewer's concerns and contentions. Commenting during scoping and any other designated opportunity to comment provided by the Responsible Official will also establish standing to object once the final EIS and Draft Record of Decision have been published. Comments received in response to this solicitation, including names and addresses of those who comment, will be part of the public record for this proposed action. Comments submitted anonymously will be accepted and considered; however, they will not establish standing for the objection process.

The decision to approve the revised land management plan for the Lolo National Forest will be subject to the objection process identified in 36 CFR part 219 Subpart B (219.50 to 219.62). According to 36 CFR 219.53(a), those who may file an objection are individuals and entities who have submitted substantive formal comments related to land management plan revision during the opportunities provided for public comment. The burden is on the objector to demonstrate compliance with requirements for objections (36 CFR 219.53).

Nature of Decision To Be Made

The Lolo National Forest is preparing an EIS to revise its land management plan. The EIS process is meant to inform the Forest Supervisor so they can decide which alternative best maintains and restores National Forest System terrestrial and aquatic resources while providing ecosystem services and multiple uses, as required by the National Forest Management Act and the Multiple Use Sustained Yield Act. The revised land management plan will describe the strategic intent of managing the Forest for the next 10 to 15 years and will address the identified need for change to the existing land management plan.

The revised land management plan will supplement, not replace, overarching laws and regulations. The authorization of project level activities will be based on the guidance and direction contained in the revised land management plan but will occur through subsequent project-specific National Environmental Policy Act (NEPA) analysis and decision-making. No decisions will be made regarding the management of individual roads or trails such as those that might be associated with a Travel Management plan under 36 CFR part 212. No decision regarding oil and gas leasing availability will be made.

Dated: December 5, 2023.
Troy Heithecker,
Associate Deputy Chief, National Forest System.

[FR Doc. 2024-01896 Filed 1-30-24; 8:45 am]

BILLING CODE 3411-15-P